DEPARTMENT OF TRANSPORTATION

Federal Aviation Administration

Proposed Advisory Circular 25-17A Revision, Transport Airplane Cabin Interiors Crashworthiness Handbook

AGENCY: Federal Aviation Administration, DOT.

ACTION: Notice of availability of proposed advisory circular (AC) 25-17A revision and request for comments.

SUMMARY: This notice announces the availability of and requests comments on a proposed advisory circular (AC) revision that sets forth acceptable methods of compliance with Title 14, Code of Federal Regulations (14 CFR), part 25, concerning the crashworthiness requirements as applied to cabin interiors. Like all ACs, it is not regulatory but provides guidance for applicants in demonstrating compliance with the objective safety standards set forth in part 25. This notice is necessary to give all interested persons an opportunity to present their views on the proposed AC.

DATES: Comments must be received on or before March 16, 2006.

ADDRESSES: Send all comments on the proposed AC to: Federal Aviation Administration, Attention: Jayson Claar, Airframe/Cabin Safety, ANM-115, Transport Airplane Directorate, Aircraft Certification Service, 1601 Lind Avenue SW, Renton, WA 98055-4056. Comments may be inspected at the above address between 7:30 a.m. and 4 p.m. weekdays, except Federal holidays.

FOR FURTHER INFORMATION CONTACT: Jayson Claar at telephone number 425-227-2194; fax number 425-227-1232.

SUPPLEMENTARY INFORMATION:

Comments Invited

Interested persons are invited to comment on the proposed AC revision by submitting such written data, views, or arguments, as they may desire. Commenters should identify AC 25-17A and submit comments, in duplicate, to the address specified above. The Transport Airplane Directorate will consider all communications received on or before the closing date for comments before issuing the final AC. The proposed AC revision can be found and downloaded from the Internet at http://www.airweb.faa.gov/rgl under “Draft Advisory Circulars.” A paper copy or a CD ROM (Adobe Acrobat Reader required) of the proposed AC may be obtained by contacting the person named above under the caption FOR FURTHER INFORMATION CONTACT. Because of the large size of this proposed AC (approximately 860 pages) and the time necessary for copying the document, expect extra time for fulfilling requests for paper copies.

Discussion

The proposed AC 25-17A revision contains guidance pertinent to the cabin safety and crashworthiness type certification requirements of part 25 as amended by Amendments 25-1 through 25-112. Previously, two ACs on this subject have been available to the public:

• AC 25-17 was issued on 7/15/91. It covers Amendments 25-1 through 25-59.

• A proposed AC 25-17A revision was published on 10/7/99, for public comment. It covered Amendments 25-1 through 25-70. That revision was never issued as a final document.

Several commentors to the 1999 draft revision requested that the format of the AC be changed to repeat the complete regulatory text and all of the applicable guidance material at each amendment level. The FAA agrees with those commentors and has revised the format of this proposed revision to the AC to implement that change. This change, however, significantly increases the size of this document.

The formats of the current version of the AC issued in 1991, and the 1999 proposed revision presented the entire regulatory text and applicable guidance only when any regulatory section is first included in the AC. For subsequent amendments to the section, only the revised rule text and additional guidance was included. Therefore, when looking for all the guidance related to a regulatory section at a recent amendment level, the reader must go through all of the amendment levels for that section. The same applies to determining the entire text for any regulatory section, e.g., § 25.807.

Therefore, this proposed AC 25-17A revision provides, for each crashworthiness section,the complete regulatory text and associated guidance for each relevant amendment, in chronological order. Those paragraphs changed by the amendment are enclosed within [ ]. At the end of each guidance paragraph, the first applicable amendment level is given within ( ).

Including the complete regulation at each amendment level; all of the guidance material at each amendment level, including guidance from Amendments 25-1 through 25-112; and all of the new appendices, results in the document increasing to about 860 pages. The existing AC 25-17 includes guidance from Amendments 25-1 through 25-59 (approximately one-half the number of amendments) and is 198 pages. Compared with the total size of this proposed AC 25-17A revision, the amount of changes is very small.

To assist in reviewing the proposed AC, the FAA identifies the additions/changes made to the guidance by highlighting the text changes the first time they appear. The baseline for identifying the changes to the guidance is the existing AC 25-17, dated 7/15/91. The additions/changes are broken down into four categories, each represented in a different highlight color. Minor changes to improve clarity, understanding, and grammar are not highlighted.

The categories and colors are:

• Yellow highlight text (Yellow highlight)—Additions/changes to the guidance included in the 1999 version of the AC that was published for comment AND the changes made as the result of public comments received on that draft AC.

• Green highlight text—Additions/changes to the guidance that have been through the FAA policy development process.

• Blue highlight text—Additions/changes to the guidance made as the result of a change in the regulations.

• Purple highlight text—Additions/changes to the guidance that are new,and have not been through the public process.

Reviewers of the draft AC are encouraged to focus their attention on the highlighted text,which represents the revised or new guidance compared to the existing released version of this AC. However, if comments are received on guidance that is in AC 25-17, they will reviewed and considered as well.

The methods and procedures described in this proposed AC revision have evolved over many years. This proposed AC revision represents one acceptable means, but not the only means, of compliance pertinent to the associated requirements at the indicated amendment levels.

Issued in Renton, Washington, on November 4, 2005.
Ali Bahrami,
Manager, Transport Airplane Directorate, Aircraft Certification Service.

[FR Doc. 05-22651 Filed 11-15-05; 8:45 am]

BILLING CODE 4910-13-M